ENVIRONMENTAL PROTECTION AGENCY

40 CFR Part 82

[FRL-6718-2]

Protection of Stratospheric Ozone

AGENCY: Environmental Protection Agency.

ACTION: Notice of acceptability.

SUMMARY: This document expands the list of acceptable substitutes for ozone-depleting substances (ODS) under the U.S. Environmental Protection Agency's (EPA) Significant New Alternatives Policy (SNAP) program.

EFFECTIVE DATE: June 19, 2000.

ADDRESSES: Information relevant to this document is contained in Air Docket A-91-42, Central Docket Section, South Conference Room 4, U.S. Environmental Protection Agency, 401 M Street, SW, Washington, DC 20460, telephone: (202) 260-7548. The docket may be inspected between 8:00 a.m. and 5:30 p.m. weekdays. As provided in 40 CFR part 2, a reasonable fee may be charged for photocopying.

FOR FURTHER INFORMATION CONTACT: Anhar Karimjee at (202) 564-2683 or fax (202) 565-2095, U.S. Environmental Protection Agency, Stratospheric Protection Division, Mail Code 6205J, Washington, DC 20460. Overnight or courier deliveries should be sent to the office location at 501 3rd Street, NW, Washington, DC, 20001. The Stratospheric Protection Hotline can be reached at (800) 296-1996. Further information can be found at EPA's Ozone Depletion World Wide Web site at “http://www.epa.gov/ozone/title6/snap/”.

SUPPLEMENTARY INFORMATION:

I. Section 612 Program

A. Statutory Requirements

B. Regulatory History

II. Listing of Acceptable Substitutes

A. Refrigeration and Air Conditioning

B. Foam Blowing

III. Additional Information

Appendix A—Summary of Acceptable Decisions

I. Section 612 Program

A. Statutory Requirements

Section 612 of the Clean Air Act authorizes EPA to develop a program for evaluating alternatives to ozone-depleting substances. EPA refers to this program as the Significant New Alternatives Policy (SNAP) program. The major provisions of section 612 are:

• Rulemaking—Section 612(c) requires EPA to promulgate rules making it unlawful to replace any class I (chlorofluorocarbon, halon, carbon tetrachloride, methyl chloroform, methyl bromide, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. EPA must publish a corresponding list of acceptable alternatives for specific uses.

• Petition Process—Section 612(d) grants the right to any person to petition EPA to add a substance to or delete a substance from the lists published in accordance with section 612(c). The Agency has 90 days to grant or deny a petition. Where the Agency grants the petition, EPA must publish the revised lists within an additional 6 months.

• 90-day Notification—Section 612(e) requires EPA to require any person who produces a chemical substitute for a class I substance to notify the Agency not less than 90 days before new or existing chemicals are introduced into interstate commerce for significant new uses as substitutes for a class I substance. The producer must also provide the Agency with the producer's unpublished health and safety studies on such substitutes.

• Outreach—Section 612(b)(1) states that the Administrator shall seek to maximize the use of federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published rulemaking (59 FR 13044) which described the process for administering the SNAP program and issued EPA's first acceptability lists for substitutes in the major industrial use sectors. These sectors include: refrigeration and air conditioning; foam blowing; solvents cleaning; fire suppression and explosion protection; sterilants; aerosols; adhesives, coatings and inks; and tobacco expansion. These sectors compose the principal industrial sectors that historically consumed the largest volumes of ozone-depleting compounds.

As described in this original rule for the SNAP program, EPA does not believe that rulemaking procedures are required to list alternatives as acceptable with no limitations. Such listings do not impose any sanction, nor do they remove any prior license to use a substance. Consequently, by this notice EPA is adding substances to the list of acceptable alternatives without first requesting comment on new listings.

EPA does, however, believe that notice-and-comment rulemaking is required to place any substance on the list of prohibited substitutes, to list a substance as acceptable only under certain conditions, to list substances as acceptable only for certain uses, or to remove a substance from either the list of prohibited or acceptable substitutes. Updates to these lists are published as separate notices of rulemaking in the Federal Register.

The Agency defines a “substitute” as any chemical, product substitute, or alternative manufacturing process, whether existing or new, intended for use as a replacement for a class I or class II substance. Anyone who produces a substitute must provide the Agency with health and safety studies on the substitute at least 90 days before introducing it into interstate commerce for significant new use as an alternative. This requirement applies to substitute manufacturers, but may include importers, formulators or end-users, when they are responsible for introducing a substitute into commerce.

A complete chronology of SNAP decisions and the appropriate Federal Register citations can be found at EPA's Ozone Depletion World Wide Web site at http://www.epa.gov/ozone/title6/snap/chron.html. This information is also available from the Air Docket (see Addresses section above for contact information).

II. Listing of Acceptable Substitutes

This section presents EPA's most recent acceptable listing decisions for substitutes in the refrigeration and foams sectors. For copies of the full list of SNAP decisions in all industrial sectors, contact the EPA Stratospheric Protection Hotline at (800) 296-1996.

The sections below presents a detailed discussion of the substitute listing. The table summarizing today's listing decisions is in Appendix A. The comments contained in the table in Appendix A provide additional information, but are not legally binding under section 612 of the Clean Air Act. Thus, adherence to recommendations in the comments section of the table is not mandatory for use of a substitute. In addition, such comments should not be considered comprehensive with respect to other legal obligations pertaining to the use of the substitute. However, EPA strongly encourages users of acceptable substitutes to apply all such comments to their use of these substitutes. In many instances, the comments simply refer to standardized operating practices that have already been identified in existing industry and/or building-code standards. Thus, many of these comments, if adopted, would not require significant changes in existing operating practices for the affected industry.

A. Refrigeration and Air Conditioning

1. Acceptable Substitutes

(a) HFC-4310mee. HFC-4310mee is acceptable as a substitute for CFCs and HCFCs in non-mechanical heat transfer applications. Heat transfer applications are “all cooling systems that rely on convection to remove heat from an area, rather than relying on mechanical refrigeration” (59 CFR 13071). HFC-4310mee is nonflammable and has no ozone depletion potential. However, it does have a 100-year global warming potential of 1700. The potential of HFC-4310mee to contribute to global warming may be mitigated in this end-use through the implementation of the venting prohibition under section 608(c)(2) of the Clean Air Act. HFC-4310mee is already acceptable as a substitute in all solvent cleaning end-uses subject to a 200 part per million (ppm) time-weighted average workplace exposure limit and a 400 ppm workplace exposure ceiling (61 FR 54029, 64 FR 30410). The same industry-established acceptable exposure limits apply in this end-use.

(b) Ikon®B. Ikon®B, a blend of trifluoroiodomethane (CF3I), HFC-134a and HFC-152a, is acceptable as a substitute for CFC-12 in household refrigerators and freezers. Ikon®B was listed as acceptable in various refrigeration and air conditioning end-uses in a December 6, 1999 SNAP notice (64 FR 68039). Fractionation and flammability testing have determined that although HFC-152a is flammable, Ikon®B as blended is not, and further testing has shown that it does not become flammable after leakage. Ikon®B has virtually no ozone depleting potential. It contains two constituents with moderate global warming potentials. The potential of these constituents for contributing to global warming may be mitigated in this end-use through the implementation of the venting prohibition under section 608(c)(2) of the Clean Air Act.

(c) Ikon®A. Ikon®A, a blend of trifluoroiodomethane (CF3I) and HFC-152a, is acceptable as a substitute for CFC-12 in the following end-uses:

• Commercial comfort air conditioning;

• Industrial process refrigeration and air conditioning;

• Cold storage warehouses;

• Refrigerated transport;

• Retail food refrigeration;

• Vending machines;

• Water coolers;

• Commercial ice machines; and

• Household refrigerators and freezers.

Ikon®A, also known as Ikon-12 or Blend Zeta, was listed as acceptable as a substitute for CFC-12 in retrofitted and new motor vehicle air conditioners in a May 22, 1996 SNAP notice (61 FR 25585). Fractionation and flammability testing have determined that although HFC-152a is flammable, the blend is not flammable; further testing has shown that it does not become flammable after leakage. Ikon®A has virtually no ozone depleting potential. The blend does contain HFC-152a which has a global warming potential of 190 over a 100-year integrated time horizon. The potential of this constituent for contributing to global warming may be mitigated in each end-use through the implementation of the venting prohibition under section 608(c)(2) of the Clean Air Act.

(d) HFC-245fa. HFC-245fa is acceptable as a substitute for CFC-11 in new commercial comfort air conditioning applications (commercial chillers). HFC-245fa contains no chlorine or bromine; therefore, it has no ozone depletion potential. Although its 100-year global warming potential is approximately 1000, the potential of HFC-245fa to contribute to global warming may be mitigated in this end-use through the implementation of the venting prohibition under section 608(c)(2) of the Clean Air Act. HFC-245fa is also non-flammable. EPA anticipates that HFC-245fa will be used in such a manner so that any recommendations specified in the manufacturers' Material Safety Data Sheets (MSDSs) are followed. The Agency also expects that the workplace environmental exposure will not exceed the American Industrial Hygiene Association's (AIHA) limit of 300 ppm.

In 1994, the SNAP program developed a guidance document entitled “Choosing the Optimal Chiller in the Face of a CFC Phaseout”. This guidance was written to assist building owners and operators making decisions on the retrofit or replacement of their existing chillers in light of the phaseout of CFCs. The guidance stresses that the optimal way to select new equipment is to consider a comprehensive set of criteria including ozone depletion potential, global warming potential, energy efficiency, toxicity, occupational exposure, consumer exposure, ecological effects, flammability and cost. It highlights that each refrigerant has advantages and disadvantages and that one option is not likely to satisfy the optimal requirement for every circumstance.

EPA has determined that HFC-245fa is acceptable from an overall health and environmental perspective and may potentially play an important role in the phaseout of ozone depleting substances. However, it is imperative that building owners and operators evaluate refrigerants from a technical standpoint to determine which option is superior for their specific application. For example, a refrigerant may prove suitable and highly efficient for a particular chiller capacity range, but not necessarily for all ranges. To obtain copies of the EPA guidance mentioned above, technical information submitted by the manufacturers of HFC-245fa and industry expert evaluations of HFC-245fa, contact EPA's Air Docket at (202) 260-7548 (Reference A-91-42, IX-B-52 through 56).

(e) Small auxiliary power units which include an engine, electrical alternator, water pump, air conditioning compressor, and a heat exchanger that are used in tractor trailers in conjunction with passenger compartment climate control systems that use a SNAP-accepted refrigerant. Small auxiliary power units which include an engine, electrical alternator, water pump, air conditioning compressor and a heat exchanger used in tractor trailers in conjunction with passenger compartment climate control systems that already use an acceptable substitute refrigerant, are acceptable as substitutes for CFC-12 in motor vehicle air conditioners. These systems have been developed for use in heavy duty trucks that contain sleeper compartments. Currently these trucks must continually idle while the vehicle is parked and the driver is resting in the sleeper compartment, to power a conventional air-conditioner or heater when cooling or heating comfort is needed. These power units will allow the provision of cooling/heating comfort while the engine is off, and although the unit is powered by a small diesel engine, emissions are reduced dramatically.

The main engine of the truck operates the existing truck air conditioning and heating system in a normal manner when the engine is running. When air conditioning or heating is required and the main engine is not running, the auxiliary power unit operates the air conditioning or heating system. The unit includes its own engine, air conditioning compressor, alternator, water pump, and heat exchanger. The unit works in conjunction with the existing truck air conditioning and heating components to supply the desired air conditioning or heating capacity.

After reviewing the technology of the auxiliary power system submitted in the SNAP application, the SNAP review found no safety or environmental concerns associated with its use in trucks. EPA acknowledges the existence of such a system and recognizes the potential merits. This type of technology can significantly lower fuel consumption and reduce pollutant emissions of nitrous oxides, carbon monoxide, carbon dioxide, sulfuric oxides, and particulate matter.

B. Foam Blowing

1. Acceptable Substitutes

(a) Vacuum panels. Vacuum panels are acceptable as substitutes for HCFC blown rigid polyurethane appliance foam. EPA defines a substitute as “any chemical, product substitute, or alternative manufacturing process” (59 FR 13050). The Agency listed vacuum panels as acceptable substitutes for CFC-11 blown rigid polyurethane appliance foam on January 13, 1995 (60 FR 3318). Today's decision makes vacuum panels also acceptable as substitutes for HCFC blown polyurethane foam.

(b) 2-Chloropropane. 2-Chloropropane (isopropyl chloride) is acceptable as a substitute for HCFCs in rigid polyurethane and polyisocyanurate laminated boardstock foam. This non-ozone-depleting chemical was listed as acceptable as a substitute for CFC-11 in rigid polyurethane and polyisocyanurate laminated boardstock foam and phenolic insulation board in the original SNAP rulemaking on March 18, 1994 (59 FR 13044). 2-Chloropropane has no global warming potential. An analysis of the decomposition products of 2-chloropropane shows that concentrations are well below the 1500 parts per million (ppm) limit that EPA has determined to be of concern. This analysis can be obtained through EPA's Air Docket at (202) 260-7548 (Reference A-91-42, IX-B-57). Although exposure to foam blown with 2-chloropropane poses essentially no risk to the consumer, exposure during manufacturing could pose a risk. Analysis of toxicity data available suggest an acceptable exposure limit of 350 ppm (8-hour Time Weighted Average). This analysis can also be obtained through EPA's Air Docket at (202) 260-7548 (Reference A-91-42, IX-B-58). Because 2-chloropropane is flammable, appropriate fire control measures should be in place throughout the foam manufacturing process including storage and handling of the chemical.

III. Additional Information

Contact the Stratospheric Protection Hotline at (800) 296-1996, Monday-Friday, between the hours of 10 a.m. and 4 p.m. (EST). For more information on the Agency's process for administering the SNAP program or criteria for evaluation of substitutes, refer to the original SNAP rulemaking published in the Federal Register on March 18, 1994 (59 FR 13044). Notices and rulemakings under the SNAP program, as well as all EPA publications on protection of stratospheric ozone, are available from EPA's Ozone Depletion World Wide Web site at “http://www.epa.gov/ozone/title6/snap/” and from the Stratospheric Protection Hotline whose number is listed above.

List of Subjects in 40 CFR Part 82

Environmental protection, Administrative practice and procedure, Air pollution control, Reporting and recordkeeping requirements.

Dated: June 2, 2000.
Paul Stolpman,
Director, Office of Atmospheric Programs, Office of Air and Radiation.

Appendix A: Summary of Acceptable Decisions
End-use | Substitute | Decision | Comments
Refrigeration and Air Conditioning
Non-Mechanical Heat Transfer | HFC-4310mee for CFCs and HCFCs | Acceptable | EPA expects that the company-established 200 ppm time-weighted average workplace exposure limit and 400 ppm workplace exposure ceiling will be met.
Household Refrigerators and Freezers | Ikon® B for CFC-12 | Acceptable | EPA expects that manufacturers, installers and servicers of refrigeration and air-conditioning systems will follow all applicable industry practices and technical standards, including but not limited to standards issued by the American Society of Heating, Refrigeration and Air-conditioning Engineers (ASHRAE), and that exposures will be kept within all applicable American Industrial Hygiene Association (AIHA) and American Conference of Governmental Industrial Hygienists (ACGIH) occupational exposure limits.
• Commercial Comfort Air Conditioning • Industrial Process Refrigeration and Air Conditioning • Cold Storage Warehouses • Refrigerated Transport • Retail Food Refrigeration • Vending Machines • Water Coolers • Commercial Ice Machines • Household Refrigerators and Freezers | Ikon® A for CFC-12 | Acceptable | EPA expects that manufacturers, installers and servicers of refrigeration and air-conditioning systems will follow all applicable industry practices and technical standards, including but not limited to standards issued by the American Society of Heating, Refrigeration and Air-conditioning Engineers (ASHRAE), and that exposures will be kept within all applicable American Industrial Hygiene Association (AIHA) and American Conference of Governmental Industrial Hygienists (ACGIH) occupational exposure limits.
Commercial Comfort Air Conditioning | HFC-245fa. for CFC-11 (new only) | Acceptable | Building owners and operators should evaluate refrigerants from a technical standpoint to determine which option is superior for their specific application.
Small auxiliary power units which include an engine, electrical alternator, water pump, air conditioning compressor and a heat exchanger used in tractor trailers in conjunction with passenger compartment climate control systems that already use an acceptable substitute refrigerant | CFC-12 in motor vehicle air conditioners | Acceptable | EPA anticipates that installers and servicers of refrigeration and air-conditioning systems will follow all applicable standard industry practices and technical standards.
Foam Blowing
Polyurethane Appliance Foam | Vacuum panels | Acceptable
Rigid Polyurethane and Polyisocyanurate Boardstock | 2-chloropropane | Acceptable | Analysis of toxicity data available suggest an acceptable exposure limit of 350 ppm (8-hour Time Weighted Average).

[FR Doc. 00-15299 Filed 6-16-00; 8:45 am]

BILLING CODE 6560-50-P